DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed three-year extension of the Oil and Gas Reserves System Survey Forms: Form EIA-23L Annual Survey of Domestic Oil and Gas Reserves, Field Level Report; Form EIA-23S Annual Survey of Domestic Oil and Gas Reserves, Summary Level Report; and EIA-64A Annual Report of the Origin of Natural Gas Liquids Production.

DATES: Comments must be filed by September 14, 2009. If you anticipate difficulty in submitting comments within that period, contact the person listed below as soon as possible.

ADDRESSES: Send comments to Mr. Steven Grape at U.S. Department of Energy, Energy Information Administration, Reserves and Production Division, 1999 Bryan Street, Suite 1110, Dallas, Texas 75201-6801. To ensure receipt of the comments by the due date, submission by e-mail (steven.grape@eia.doe.gov) or fax (214-720-6155) is recommended. Alternatively, Mr. Grape may be contacted by telephone at (214-720-6174).

FOR FURTHER INFORMATION CONTACT: Requests for additional information or copies of any forms and instructions should be directed to Mr. Grape as listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This EIA-23 program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected and to assess the impact of collection requirements on the public. Also, the EIA will later seek approval by the Office of Management and Budget (OMB) under Section 3507(a) of the Paperwork Reduction Act of 1995.

Operators of crude oil and natural gas wells are the target respondents of Form EIA-23. There are two versions of Form EIA-23. Field level information is requested from large and intermediate operators. Large operators (those that produce 1.5 million barrels or more of crude oil or 15 billion cubic feet or more of natural gas per year) and intermediate operators (those that produce at least 400,000 barrels of crude oil or 2 billion cubic feet of natural gas per year, but less than large operators) file Form EIA-23L, field level. Respondents report volumes of crude oil, associated-dissolved natural gas, non-associated natural gas, lease condensate, production, reserves, revisions to previous year reports, discoveries, extensions, sales, acquisitions, and non-producing reserves for each individual operated field without regard to interest ownership. A selected sample of small operators (those that produce less than intermediate operators) are requested to submit the less detailed Form EIA-23S, summary level. These operators provide production and available reserves information for crude oil, total natural gas, and lease condensate at a State or geographic subdivision level. The majority of small operators are not asked to report annually on Form EIA-23.

Operators of natural gas plants are the target respondents of the Form EIA-64A. The volumes of natural gas processed, natural gas liquids produced, resultant shrinkage of the natural gas, and natural gas used in processing are requested of all natural gas plant operators.

In response to Public Law 95-91 Section 657, estimates of U.S. oil and gas reserves are to be reported annually. Many U.S. government agencies have an interest in the definitions of proved oil and gas reserves and the quality, reliability, and usefulness of estimates of reserves. Among these are the Energy Information Administration (EIA), Department of Energy; Minerals Management Service (MMS), Department of Interior; Internal Revenue Service (IRS), Department of the Treasury; and the Securities and Exchange Commission (SEC). Each of these organizations has specific purposes for collecting, using, or estimating proved reserves. The EIA has a congressional mandate to provide accurate annual estimates of U.S. proved crude oil, natural gas, and natural gas liquids reserves, and presents annual reserves data in EIA Web reports to meet this requirement. The MMS maintains estimates of proved reserves to carry out their responsibilities in leasing, collecting royalty payments, and regulating the activities of oil and gas companies on Federal lands and water, and is second only to the IRS in generating Federal revenue. For the IRS, proved reserves and occasionally probable reserves are an essential component of calculating taxes for companies owning or producing oil and gas. The SEC requires publicly traded petroleum companies to annually file a reserves statement as part of their 10-K filing. The basic purpose of the 10-K filing is to give the investing public a clear and reliable financial basis to assess the relative value, as a financial asset, of a company's reserves, especially in comparison to other similar oil and gas companies.

The Government also uses the resulting information to develop national and regional estimates of proved reserves of domestic crude oil, natural gas, and natural gas liquids to facilitate national energy policy decisions. These estimates are essential to the development, implementation, and evaluation of energy policy and legislation. Data are used directly in EIA web reports concerning U.S. crude oil, natural gas, and natural gas liquids reserves, and are incorporated into a number of other Web reports and analyses. Secondary reports that use the data include EIA's Annual Energy Review, Annual Energy Outlook, Petroleum Supply Annual, and Natural Gas Annual.

II. Current Actions

This notice is for a 3-year extension of Form EIA-23L Annual Survey of Domestic Oil and Gas Reserves, Field Level Report; Form EIA-23S Annual Survey of Domestic Oil and Gas Reserves, Summary Level Report; and EIA-64A Annual Report of the Origin of Natural Gas Liquids Production.

There are no changes being proposed to the current Forms EIA-23L, Form EIA-23S, and Form EIA-64A.

III. Request for Comments

Prospective respondents and other interested parties should comment on the actions discussed in item II. The following guidelines are provided to assist in the preparation of comments. (If the notice covers more than one form, add “Please indicate to which form(s) your comments apply.”)

As a Potential Respondent to the Request for Information:

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. Public reporting burden for this collection is estimated to average:

Form EIA-23S: 4 hours (small operators)

Form EIA-23L: 32 hours (intermediate operators); 160 hours (large operators)

Form EIA-64A: 6 hours (natural gas plant operators).

The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information To Be Collected:

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Federal Energy Administration Act of 1974 (15 U.S.C. 761 et seq.), and the DOE Organization Act (42 U.S.C. 7101).

Issued in Washington, DC, July 9, 2009.
Stephanie Brown,
Director, Statistics and Methods Group, Energy Information Administration.

[FR Doc. E9-16822 Filed 7-14-09; 8:45 am]

BILLING CODE 6450-01-P